DEPARTMENT OF HEALTH AND HUMAN SERVICES

Administration for Children and Families

Proposed Information Collection Activity; Voluntary Agencies Matching Grant Program Data Reporting (New Collection)

AGENCY: Office of Refugee Resettlement, Administration for Children and Families, U.S. Department of Health and Human Services.

ACTION: Request for public comments.

SUMMARY: The Office of Refugee Resettlement (ORR), Administration for Children and Families (ACF), U.S. Department of Health and Human Services, is proposing to collect data from grantee agencies participating in the Voluntary Agencies Matching Grant Program. Client data collected will include enrollment information, demographics, and program outcomes.

DATES: Comments due within 60 days of publication. In compliance with the requirements of Section 3506(c)(2)(A) of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: This Matching Grant Program data collection is designed to satisfy the statutory requirements of the Immigration and Nationality Act (INA). Section 412(a)(3) of INA (8 U.S.C. 1522(a)(3)) requires that the Director of ORR make a periodic assessment of the needs of refugees for assistance and services and the resources available to meet those needs. ORR proposes collecting both case-level and client-level data elements at multiple points in time, which will allow the ORR Director to better understand client demographics, services utilized, and the outcomes achieved by clients enrolled in the Matching Grant Program. Data elements include biographical information, progress made toward achieving self-sufficiency, and employment status. The data collected will inform evidence-based policy making and program design.

Respondents: National resettlement agencies participating in the Matching Grant Program.

Annual Burden Estimates
Instrument | Total number of respondents | Total number of responses per respondent (3 years) | Average burden hours per response | Total burden hours (3 years) | Annual burden hours
Voluntary Agencies Matching Grant Program Data Reporting—Data System Updates | 10 | 1 | 60 | 600 | 200
Voluntary Agencies Matching Grant Program Data Reporting—Monthly Uploads | 10 | 36 | 16 | 5,760 | 1,920
Total estimated annual burden |  |  |  |  | 2,120

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522(a)(3).

Mary B. Jones,
ACF/OPRE Certifying Officer.

[FR Doc. 2023-15333 Filed 7-18-23; 8:45 am]

BILLING CODE 4184-89-P